DEPARTMENT OF TRANSPORTATION

Federal Highway Administration

Notice of Final Federal Agency Actions on Proposed Highway in Ohio

AGENCY: Federal Highway Administration (FHWA), DOT.

ACTION: Notice of Limitation on Claims for Judicial Review of Actions by FHWA, Army Corps of Engineers (USACE), and Other Federal Agencies.

SUMMARY: This notice announces actions taken by the FHWA, USACE, and other Federal agencies that are final within the meaning of 23 U.S.C. 139(l)(1). The actions relate to a proposed highway project, the Interstate Routes 75 and 475 systems interchange, in the City of Toledo, Lucas County, in the State of Ohio. Those actions grant licenses, permits, and approvals for the project.

DATES: By this notice, the FHWA is advising the public of final agency actions subject to 23 U.S.C. 139(l)(1). A claim seeking judicial review of the Federal agency actions on the highway project will be barred unless the claim is filed on or before January 5, 2009. If the Federal law that authorizes judicial review of a claim provides a time period of less than 180 days for filing such claim, then that shorter time period still applies.

FOR FURTHER INFORMATION CONTACT: For FHWA: Mr. Adam Johnson, Highway Engineer, Federal Highway Administration, 200 North High Street, Columbus, Ohio 43215; telephone: (614) 280-6843; e-mail: Adam.Johnson@fhwa.dot.gov. The FHWA Ohio Division Office's normal business hours are 8 a.m. to 4:30 p.m. (eastern time). For USACE: Ms. Deborah Wegmann, Program Manager, Ohio Regulatory Transportation Office, Building 10, Section 10, 3990 East Broad Street Columbus, Ohio 43218; telephone 614-692-4660; e-mail: Deborah.Wegmann@lrh01.usace.army.mil. For the Ohio Department of Transportation: Mr. Timothy Hill, Ohio Department of Transportation, 1980 West Broad Street, Columbus, Ohio 43223; telephone: (614) 644-0377 e-mail: Tim.Hill@dot.state.oh.us.

SUPPLEMENTARY INFORMATION: Notice is hereby given that the FHWA, USACE, and other Federal agencies have taken final agency actions by issuing licenses, permits, and approvals for the following highway project in the State of Ohio: Beginning from the south along I-75 at the Detroit Avenue Interchange (Delaware Avenue bridge and CSX railroad over I-75 not included), thence north to the systems interchange. Continuing on to about 1,800 ft past the Lagrange Street Bridge over I-75. The project length along I-75 is approximately 7.0 miles. Beginning from the west along I-475, just west of the Douglas Road bridge over I-475, thence east to the systems interchange. The project length along I-475 is approximately 2.1 miles. The proposed project will generally be on existing alignment and involves upgrading of a systems interchange, reconfiguration of two full interchanges and one partial interchange, construction of one new interchange, rehabilitation and reconstruction of 13 existing bridges, and 9 proposed bridges. The actions by the Federal agencies, and the laws under which such actions were taken, are described in the Environmental Assessment (EA) for the project, approved on October 16, 2006, in the Finding of No Significant Impact (FONSI) issued on March 21, 2008, and in other documents in the FHWA administrative record. The EA, FONSI, and other documents in the FHWA administrative record file are available by contacting the FHWA or the Ohio Department of Transportation at the addresses provided above. The EA and FONSI can be viewed at the Toledo—Lucas County Public Libraries (Main, Sanger, West Toledo, Kent, and Lagrange Branches), the City of Toledo—Division of Transportation Office, ODOT District 2 Office in Bowling Green, City of Toledo—Clerk of Council Office, City of Toledo—Division of Streets, Bridges, and Harbor, and the Toledo Metropolitan Area Council of Governments (TMACOG).

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303.]

4. Wildlife: Endangered Species Act [16 U.S.C. 1531-1544 and Section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources.

(Catalog of Federal Domestic Assistance Program Number 20.205, Highway Planning and Construction. The regulations implementing Executive Order 12372 regarding intergovernmental consultation on Federal programs and activities apply to this program.)

Authority: 23 U.S.C. 139(l)(1).

Issued on: June 30, 2008.
Herman D. Rodrigo,
Director of Engineering and Operations, Columbus, Ohio.

[FR Doc. E8-15385 Filed 7-7-08; 8:45 am]

BILLING CODE 4910-RY-P